DEPARTMENT OF JUSTICE

Notice of Lodging of Consent Decree Under the Comprehensive Environmental Response Compensation and Liability Act, the Clean Water Act, and the Oil Pollution Act

In accordance with 28 CFR 50.7 and section 122 of the Comprehensive Response, Compensation and Liability Act (“CERCLA”), 42 U.S.C. § 9622, notice is hereby given that on August 20, 2004, a proposed consent decree in United States and State of Indiana v. Atlantic Richfield Company; ARCO Environmental Remediation, L.L.C.; BP Products North America Inc.; E.I. du Pont De Nemours and Company; Exxon Mobil Corporation; GATX Corporation; Georgia-Pacific Corporation; Ispat Inland Inc.; and United States Steel Corporation, No. 2:04CV348 (N.D. Ind.), was lodged with the United States District Court for the Northern District of Indiana.

In the complaint, the United States and the State of Indiana, pursuant to the Comprehensive Environmental Response, Compensation, land Liability Act of 1980, as amended (“CERCLA”), 42 U.S.C. § 9601, et seq., the Federal Water Pollution Control Act, 33 U.S.C. § 1251 et seq., commonly known as the Clean Water Act (“CWA”), and the Oil Pollution Act (“OPA”), 33 U.S.C. § 2701 et seq., seek declaratory relief, response costs and damages for injury to, destruction of, or loss of natural resources belonging to, managed by, held in trust by, controlled by or appertaining to the United States and the State of Indiana, as trustees for those resources, including the costs of assessing such injury, resulting from releases and/or threat of releases of hazardous substances, and discharges and/or substantial threats of discharges of oil, into or within the Grand Calumet River and/or the Indiana Harbor Canal, comprising a portion of the Grand Calumet River/Indiana Harbor Canal Site in northwest Indiana.

Under the proposed consent decree, the Defendants will pay $53,653,000 toward restoration of the natural resources, and a total of $2.7 million to the United States Department of the Interior and the Indiana Department of Environmental Management to reimburse them for their costs of conducting natural resource damage assessments, and convey to the State 233 acres of habitat that will be protected.

The Department of Justice will receive for a period of thirty (30) days from the date of this publication comments relating to the proposed consent decree. Comments should be addressed to the Assistant Attorney General, Environment and Natural Resources Division, P.O. Box 7611, U.S. Department of Justice, Washington, DC 20044-7611, and should refer to United States, et al. v. Atlantic Richfield, et al., No. 2:04CV348 (N.D. Ind.), and D.J. Ref. 90-11-3-1683. Commenters may request an opportunity for a public meeting in the affected area, in accordance with Section 7003(d) of Resource Conservation Recovery Act, 42 U.S.C. § 6973(d).

The proposed consent decree may be examined at: (1) The Office of the United States Attorney for the Northern District of Indiana, 5400 Federal Plaza, Suite 1500, Hammond, Indiana 46320 (contact Asst. U.S. Attorney Wayne Ault (219-937-5500)); (2) the offices of the U.S. Fish and Wildlife Service, 620 S. Walker St., Bloomington, Indiana 47403 (contact Daniel Sparks (812-334-4261)); (3) Indiana Department of Environmental Management Northwest Regional Office, 8315 Virginia Street, Suite 1, Merrillville, Indiana 46410 (Office Hours: 8:15-4:45) (contact Malani Goel, Director (219-757-0265 or 888-209-8892 toll free in Indiana)); and (4) U.S. EPA Region 5, 7th Floor Records Center, 77 West Jackson Blvd., Chicago, Illinois 60604 (contact Assoc. Regional Counsel Richard Nagle (312-353-8222)).

During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.25 (25 cents per page reproduction cost) payable to the U.S. Treasury.

William Brighton,
Assistant Chief, Environmental Enforcement Section, Environment and Natural Resources Division.

[FR Doc. 04-19979 Filed 9-1-04; 8:45 am]

BILLING CODE 4410-15-M